DEPARTMENT OF TRANSPORTATION

Pipeline and Hazardous Materials Safety Administration

Notice of Applications for Special Permits

AGENCY: Pipeline and Hazardous Materials Safety Administration (PHMSA), DOT.

ACTION: List of applications for special permits.

SUMMARY: In accordance with the procedures governing the application for, and the processing of, special permits from the Department of Transportation's Hazardous Material Regulations (49 CFR Part 107, Subpart B), notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before September 20, 2013

Address Comments To: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Copies of the applications are available for inspection in the Records Center, East Building, PHH-30, 1200 New Jersey Avenue Southeast, Washington DC or at http://regulations.gov.

This notice of receipt of applications for special permit is published in accordance with Part 107 of the Federal hazardous materials transportation law (49 U.S.C. 5117(b); 49 CFR 1.53(b)).

Issued in Washington, DC, on August 15, 2013.
Don Burger,
Chief, General Approvals and Permits.

Application No. | Docket No. | Applicant | Regulation(s) affected | Nature of special permits thereof
15889-N |  | E.I. DuPont de Nemours & Company, Inc. WILMINGTON, DE | 49 CFR 173.32(e) | To authorize the one-time transportation in commerce of a portable tank that was filled past its required periodic reinspection date. (mode 1).
15890-N |  | Carleton Technologies Inc. Westminster, MD | 49 CFR 173.302a, 173.304a and 180.209 | To authorize the manufacture, mark, sale and use of non-DOT specification fully wrapped carbon-fiber reinforced aluminum lines cylinders for the transportation in commerce of certain Division 2.1 and 2.2 materials. (modes 1, 2, 3, 4, 5).
15899-N |  | HRD Aero Systems, Inc. Valencia, CA | 49 CFR 173.302a | To authorize the manufacture, mark and sell of non-DOT specification cylinder for the transportation in commerce of a Division 2.2 gas. (modes 1, 3, 4, 5).
15931-N |  | ATK Small Caliber Systems (SCS), Lake City Army Ammunition Plant (LCAAP) Independence, MO | 49 CFR 172.201(a)(1); Subpart F of Part 172; 172.203(a), 172.301(c), 174.59 and 174.61(a), | To authorize the transportation in commerce of certain packages containing only the residue of Class 1 smokeless powders without complete shipping papers and placarding. (modes 1, 2).
15955-N |  | Thompson Tank, Inc. Lakewood, CA | 49 CFR 173.315 | To authorize the manufacture, marking, sale and use of non-DOT specification cargo tanks manufactured to ASME Section XII stamped with a “T” Stamp instead of the “U” stamp. (mode 1).
15957-N |  | Ball Metal Food & Household Products Danville, IL | 49 CFR 171.2(g) | To authorize the filling and use of approximately 51,500 non-DOT specification inner metal receptacles which are incorrectly marked “DOT-2Q” for the transportation in commerce of aerosol products. (modes 1, 2, 3, 4).
15961-N |  | Arktis Radiation Detectors Ltd. Malvern, PA | 49 CFR 173.310 | To authorize the transportation in commerce of radiation detectors containing a Division 2.2 material that exceed the pressure authorized. (modes 1, 4).

[FR Doc. 2013-20268 Filed 8-20-13; 8:45 am]

BILLING CODE 4910-60-P